DEPARTMENT OF TRANSPORTATION

National Highway Traffic Safety Administration

[U.S. DOT Docket No. NHTSA-2012-0066]

Reports, Forms, and Recordkeeping Requirements

AGENCY: National Highway Traffic Safety Administration (NHTSA), DOT.

ACTION: Request for public comment on proposed revision of the previously approved collection of information.

SUMMARY: Before a Federal agency can collect certain information from the public, it must receive approval from the Office of Management and Budget (OMB). Under procedures established by the Paperwork Reduction Act of 1995 (44 U.S.C. 3501 et seq.), before seeking OMB approval, Federal agencies must solicit public comment on proposed collections of information, including extensions and reinstatements of previously approved collections.

This document describes an Information Collection Request (ICR) for which NHTSA intends to seek OMB approval.

DATES: Comments must be submitted on or before August 13, 2012.

ADDRESSES: You may submit comments identified by DOT Docket ID Number NHTSA-2012-0066 using any of the following methods:

Electronic submissions: Go to http://www.regulations.gov. Follow the online instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-202-493-2251

Instructions: Each submission must include the Agency name and the Docket number for the Notice. Note that all comments received will be posted without change to http://www.regulations.gov including any personal information provided.

FOR FURTHER INFORMATION CONTACT: Mary Hinch, Contracting Officer's Technical Representative, Office of Behavioral Safety Research (NTI-132), National Highway Traffic Safety Administration, 1200 New Jersey Ave. SE., W46-500, Washington, DC 20590. Mary Hinch's phone number is 202-366-5595 and her email address is mary.hinch@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Title: NHTSA Distracted Driving Survey Project.

Type of Request: Revision of previously approved collection of information.

OMB Clearance Number: 2127-0665.

Form Number: NHTSA Form 1084.

Requested Expiration Date of Approval: 3 years from date of approval.

Summary of the Collection of Information: The National Highway Traffic Safety Administration (NHTSA) proposes to conduct awareness surveys to evaluate two traffic safety programs designed to reduce distracted driving. One program will focus on hand-held phone use and be conducted statewide in two States. If clearance is granted, the awareness surveys would be conducted in-person before and after four program waves. Over the program period, 40,000 people would be surveyed, 20,000 in each State. The other program will focus on texting behavior and be conducted at the community level in two States. If clearance is granted, the awareness surveys would either be conducted in-person or by telephone before and after four program waves. Surveys would be conducted in two communities in each State. Over the program period, 20,000 people would be surveyed, 10,000 in each State. Estimated interview length would be approximately 10 minutes for each survey. Information on attitudes, awareness, knowledge, and behavior would be collected through both surveys.

A Spanish-language translation and bilingual interviewers would be used to minimize language barriers to participation. Additionally, the proposed surveys would be anonymous; the surveys would not collect any personal information that would allow anyone to identify respondents. Participant names would not be collected during the interview. For the telephone surveys, the telephone number used to reach the respondent would be separated from their responses prior to entry into the analytical database. In addition, for the telephone surveys, the interviewers would use computer-assisted telephone interviewing to reduce interview length and minimize recording errors.

Description of the Need for the Information and Proposed Use of the Information: NHTSA was established by the Highway Safety Act of l970 (23 U.S.C. 101) to carry out a Congressional mandate to reduce the mounting number of deaths, injuries, and economic losses resulting from motor vehicle crashes on the Nation's highways. As part of this statutory mandate, NHTSA is authorized to conduct research as a foundation for the development of motor vehicle standards and traffic safety programs. According to the Overview of NHTSA's Driver Distraction Program (see distraction.gov), research suggests that driving distracted may degrade driver performance by imposing additional workload on the driver. As summarized in the overview, distraction may result in reduced eye scanning behavior, slower reaction time, degraded vehicle control, and lower detection of objects in peripheral vision.

Driving distracted may influence the likelihood of a crash. This supports the need for strong evaluation efforts to identify what interventions are effective at reducing distracted driving. In this effort, NHTSA proposes to conduct information collections to assess the effectiveness of two traffic safety programs designed to reduce distracted driving. The programs will use waves of public media and enhanced enforcement activity to increase the perceived likelihood of getting a ticket for driving distracted and, consequently, decrease the occurrence of distracted driving behavior. NHTSA would like to conduct public awareness surveys to gather information from the driving public regarding their experience of the programs, including their awareness, perception, and knowledge of the programs. An essential part of these evaluation efforts is to compare baseline and post-program measures to determine if the programs contribute to changes in participant responses; therefore, multiple measurements would be required.

The findings from these two proposed information collections would build on existing knowledge. In 2010 and 2011, NHTSA conducted a high visibility enforcement program in Hartford, Connecticut and Syracuse, New York using enhanced enforcement and the media campaign, Phone in One Hand, Ticket in the Other, to reduce distracted driving behavior. The program demonstrated that this could be done at the community level, exhibited by decreases in both observed hand-held phone use and electronic device manipulation (e.g., texting). The next major step is to demonstrate how this program can be implemented statewide. NHTSA will be taking this step through a statewide distracted driving demonstration program. The findings from the first proposed information collection would provide a fuller understanding of this process. The CT NY program revealed challenges in enforcing distracted driving laws, especially with texting behavior, which can be performed below the line of sight. It is valuable to develop and test enforcement strategies to determine the ones that are effective. NHTSA will be testing enforcement strategies through a high visibility enforcement texting program. The findings from the second proposed information collection would provide insight into the effectiveness of the strategies.

Description of the Likely Respondents (Including Estimated Number, and Proposed Frequency of Response to the Collection of Information): NHTSA intends to collect data from 60,000 drivers to conduct awareness surveys for two separate distracted driving evaluation efforts. The distracted driving program focused on hand-held phone use will be conducted statewide in two States. If clearance is granted, awareness surveys would be administered in-person to a population 18 years and older, before and after four program waves. Surveys would be conducted at 10 sites in each State and 250 surveys would be administered at each site per measurement period. Over 4 waves (i.e., 8 measurement periods), 40,000 people would be surveyed in both States (20,000 in each State). (Two States * 10 locations in each State * 250 surveys per measurement period * 8 measurement periods = 40,000 total surveys.)

The distracted driving program focused on texting behavior will be conducted at the community level in two States. If clearance is granted, awareness surveys would be administered in-person or by telephone to a population 18 years and older, before and after four program waves. Surveys would be conducted in two communities in each State. For the very first and very last measurement periods, 1,000 surveys would be conducted. This would be done to increase the power required to measure change. For all other measurement periods, 500 surveys would be conducted. Over 4 waves (i.e., 8 measurement periods), 10,000 people would be surveyed in each State (20,000 people would be surveyed in both States). (Two States * 2 communities in each State * (2 measurement periods * 1,000 surveys) + (6 measurement periods * 500) = 20,000 surveys.)

For the telephone surveys, interviews would be conducted with persons at both residential phone numbers and cell phone numbers. Systematic sampling procedures would include Random Digit Dial sampling techniques. Federal law prohibits the use of auto dialing to call cell phones; therefore all cell phone numbers would be dialed manually. For interviews conducted with persons using landline phones, no more than one respondent per household would be selected. For interviews conducted with persons on cell phones, a single user of the cell phone would be selected. Each sample member would complete just one interview. Businesses are ineligible for the sample and would not be interviewed.

Estimate of the Total Annual Reporting and Recordkeeping Burden Resulting From the Collection of Information: For the statewide hand-held program, NHTSA estimates interviews would require an average of 10 minutes to complete or a total of 6,667 hours for the 40,000 respondents. For the community texting program, NHTSA estimates interviews would require an average of 10 minutes to complete or a total of 3,333 hours for the 20,000 respondents. Thus, for both proposed surveys, the total time burden on the general public would be 10,000 hours. The respondents would not incur any reporting cost from the information collection. The respondents also would not incur any record keeping burden or recordkeeping cost from the information collection.

Authority: 44 U.S.C. Section 3506(c)(2)(A).

Issued on: June 8, 2012.
Jeffrey Michael,
Associate Administrator, Research and Program Development.

[FR Doc. 2012-14413 Filed 6-12-12; 8:45 am]

BILLING CODE 4910-59-P